DEPARTMENT OF AGRICULTURE

Forest Service

Navy Timber Sale Environmental Impact Statement

AGENCY: Forest Service, USDA.

ACTION: Notice of intent to prepare an Environmental Impact Statement.

SUMMARY: The Department of Agriculture, Forest Service, will prepare an Environmental Impact Statement (EIS) on a proposal to harvest timber in the Navy Timber Sale project area on the Wrangell Ranger District, Tongass National Forest. The Proposed Action for this project is to harvest 70-80 million board feet from approximately 2,900 acres in one or more offerings and would construct approximately 33 files of new temporary and classified road to facilitate access for logging. The Proposed Action includes harvest units and road construction within Inventoried Roadless Areas, as identified in the Forest Plan SEIS. The Proposed Action includes the use of the existing Log Transfer Facility (LTF) at Anita Bay as well as the construction of a new LTF at the entrance to Burnett Inlet near Navy Creek. The Proposed Action includes a non-significant amendment to the Forest Plan to relocate and/or modify the boundaries of the Mosman and Quiet small old-growth reserves. The Forest Supervisor will decide if and how much timber harvest and road building will occur within the project area, as well as whether to modify the existing small old-growth reserves. The decision will be documented in a Record of Decision based on the information disclosed in the EIS.

DATES: A public mailing that outlines the project timeline and public involvement opportunities (Schedule of Proposed Actions) was distributed in January 2006. Individuals interested in receiving a scoping package should contact us at the address listed in the addresses section within 30 days of the publication of this Notice of Intent (NOI). Opportunities for comment are available throughout the process. Comments on this project would be most helpful if received by February 17, 2006. Additional opportunities for comment will be provided after release of the Draft Environmental Impact Statement (DEIS). The DEIS is projected to be filed with the Environmental Protection Agency (EPA) in April 2007 and will begin a 45-day comment period. The Final Environmental Impact Statement (FEIS) and Record of Decision are anticipated to be published in October 2007.

ADDRESSES: Please send written comments to Wrangell Ranger District, Attn: Navy EIS, P.O. Box 51, Wrangell, AK 99929. Electronic comments can be e-mailed to comments-alaska-tongass-wrangell@fs.fed.us. Please include the word “Navy” in the subject line.

FOR FURTHER INFORMATION CONTACT: Jamie Roberts, Planning Team Leader, or Mark Hummel, District Ranger, Wrangell Ranger District, P.O. Box 51, Wrangell, AK 99929, telephone (907) 874-2323.

SUPPLEMENTARY INFORMATION: The Navy project area is located on central Etolin Island approximately 22 air miles southwest of Wrangell, Alaska. The project area is within portions of Value Comparison Units #464, 465, 466, 467 and 468. Portions of two Inventoried Roadless Areas, North Etolin #232 and Mosman #233 as identified in the Forest Plan SEIS, are located within the project area. Timber harvest and road building is proposed within the Inventoried Roadless Areas. The project area includes three small old-growth reserves (Mosman, Quiet and Burnett) as designated in the Forest Plan. A Forest Plan amendment would be required if a decision is made to modify any old-growth reserve. The Forest Supervisor will decide if and how much timber harvest and road building will occur within the project area, as well as whether to modify the existing small old-growth reserves. The decision will be based on the information that is disclosed in the EIS. The Forest Supervisor will consider comments, responses, the disclosure of environmental effects, and applicable laws, regulations, and policies in making the decision. The rationale for the decision will be included in the Record of Decision.

Purpose and Need for Action: The purpose and need for the Navy timber Sale is: (1) To manage suitable lands to achieve 1997 Forest Plan goals and objectives in order to reach the desired future conditions prescribed for the Land Use Designations; (2) to assist in providing a continuous wood supply to meet society's needs; (3) to contribute to the job market and the overall economy of southeast Alaska; and (4) to harvest 50-80 million board feet of timber.

Public participation: Public participation has been an integral component of the study process and will continue to be especially important at several points during the analysis. The Forest Service will seek information, comments and assistance from tribal governments, federal, state and local agencies, individuals and organizations that may be interested in or affected by the proposed activities. Written scoping comments have been solicited through a preliminary scoping package that was sent to persons on the project mailing list in November 2005. Additional written scoping comments are being solicited through a scoping package that will be sent to the project mailing list concurrent with the publication of this NOI. For the Forest Service to best use the scoping input, comments should be received by February 17, 2006. If comments have already been submitted during the November 2005 preliminary scoping period, they are being considered and it is not necessary to re-submit the same comments. Based on the results of scoping and the resource concerns and capabilities within the project area, alternatives including a no-action alternative will be developed for the DEIS. Subsistence hearings, as provided for in Title VIII, Section 810 of the Alaska National interest Lands Conservation Act (ANILCA), will be provided, if necessary, during the comment period on the DEIS.

Electronic Filing Address: Electronic comments can be emailed to comments-alaska-tongass-wrangell@fs.fed.us. Please include the word “Navy” in the subject line.

Preliminary Issues: Tentative issues identified for analysis in the EIS include the potential effects of the project on and the relationship of the project to: (1) Timber sale economics, (2) conflicts with permitted outfitter/guides and other users of this area, (3) conflicts with Special Use permit holders in the vicinity of this area, (4) proximity to the South Etolin Wilderness area, (5) timber harvest and road building in Inventoried Roadless Areas, (6) economic trade-offs, and (7) modification of small old-growth reserves.

Range of Alternatives: The range of alternatives that will be developed to respond to the significant issues, besides no action, could range from 15-120 million board feet.

Draft environmental Impact Statement: A Draft Environmental Impact Statement (DEIS) will be prepared for comment. The comment period on the DEIS will be 45 days from the date the Environmental Protection Agency publishes the Notice of Availability in the Federal Register. The Forest Service believes, at this early stage, it is important to give reviewers notice of several court rulings related to public participation in the environmental review process. First, reviewers of Draft Environmental Impact Statements must structure their participation in the environmental review of the proposal so that it is meaningful and alerts an agency to the reviewer's position and contentions. Vermont Yankee Nuclear Power Corp. v. NRDC, 435 U.S. 519, 553 (1978). Also, environmental objections that could be raised at the DEIS stage but that are not raised until after completion of the Final Environmental Impact Statement (FEIS) may be waived or dismissed by the courts. City of Angoon v. Hodel, 803 F.2d 1016, 1022 (9th cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the FEIS. To assist the Forest Service in identifying and considering issues and concerns on the proposed action, comments on the DEIS should be as specific as possible. It is also helpful if comments refer to specific pages or chapters of the draft statement. Comments may also address the adequacy of the DEIS or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

Responsible Official: Forrest Cole, Forest Supervisor, Tongass National Forest, Federal Building, Ketchikan, Alaska 99901, is the responsible official. The responsible official will consider comments, responses, the disclosure of environmental effects, and applicable laws, regulations, and policies in making the decision. The rationale for the decision will be included in the Record of Decision.

(Authority: 40 CFR 1501.7 and 1508.22; Forest Service Handbook 1909.15, Section 21)

Dennis Neill,
Acting Forest Supervisor.

[FR Doc. 06-555 Filed 1-20-06 8:45am]

BILLING CODE 3410-11-M